DEPARTMENT OF THE INTERIOR

Fish and Wildlife Service

50 CFR Part 17

RIN 1018-AF45

Endangered and Threatened Wildlife and Plants; Notice of 6-Month Extension on the Proposed Rule To List the Southwestern Washington/Columbia River Coastal Cutthroat Trout in Washington and Oregon as Threatened

AGENCY: Fish and Wildlife Service, Interior.

ACTION: Notice of extension of deadline.

SUMMARY: We, the U.S. Fish and Wildlife Service, extend for 6 months the time to make a final determination on the proposal to list the distinct vertebrate population segment of the coastal cutthroat trout (Onocorhynchus clarki clarki) in the Southwestern Washington/Columbia River area as a threatened species. Under the Endangered Species Act (ESA) of 1973, as amended, the deadline for the final action on the proposed rule to list this population segment in Washington and Oregon is extended from April 5, 2000, to October 5, 2000. The 6-month extension is necessary for us to obtain and review new information needed to resolve substantial scientific disagreement about the status of this population.

DATES: Comments may be submitted until May 15, 2000.

ADDRESSES: The complete file for this notice is available for inspection, by appointment, during normal business hours at the Oregon Fish and Wildlife Office, U.S. Fish and Wildlife Service, 2600 SE 98th Ave., Suite 100, Portland, Oregon 97266.

FOR FURTHER INFORMATION CONTACT: Kemper McMaster, State Supervisor, at the above address (telephone 503/231-6179; facsimile 503/231-6195).

SUPPLEMENTARY INFORMATION:

Background

In January 1999, the National Marine Fisheries Service (NMFS) published a document titled “Status Review of Coastal Cutthroat Trout (Oncorhynchus clarki clarki) from Washington, Oregon, and California” (Johnson et al. 1999). The status review document determined that there were six Evolutionarily Significant Units (ESUs) of coastal cutthroat trout along the coast of Washington, Oregon, and California. Subsequent to the completion of the status review, NMFS and the Fish and Wildlife Service (FWS) (jointly, the Services) published a proposed rule on April 5, 1999, (64 FR 16397) to list one of the six cutthroat trout ESUs as threatened under the Endangered Species Act (ESA). The proposed ESU consisted of coastal cutthroat trout populations in southwestern Washington and the Columbia River, excluding the Willamette River above Willamette Falls. This proposed rule was issued jointly due to a question regarding which agency (FWS or NMFS) had regulatory jurisdiction over coastal cutthroat trout. The proposal also proposed, based on newly available information, to delist the Umpqua River coastal cutthroat trout ESU previously listed by NMFS as endangered.

Since the joint proposal was published, agency jurisdiction has been determined to be with FWS. On November 22, 1999, the Services jointly signed a letter announcing FWS regulatory jurisdiction over Coastal cutthroat trout (USDI & USDC 1999). This document clarified that NMFS would retain responsibility to reach a final determination, subject to our concurrence, on the proposal to delist the Umpqua population, and we would assume all other regulatory ESA responsibilities for coastal cutthroat trout (USDI & USDC 1999). A notice will soon be published in the Federal Register announcing this change in regulatory jurisdiction.

Under the timeframe established for listing decisions by the ESA (section 4(3)(b)(6)(A)), a final determination on the proposal to list the Southwestern Washington/Columbia River ESU of the coastal cutthroat trout in Washington and Oregon would normally be due by April 5, 2000. However, when substantial scientific disagreement occurs regarding the sufficiency or accuracy of the available data, as in this case, the Act allows for a 6-month extension of a final listing determination for the purpose of soliciting additional data (section 4(3)(b)(6)(B)(i)). The 6-month extension announced in this notice is based on this provision.

Substantial Scientific Disagreement

Two groups (hatchery populations and above-barrier populations of coastal cutthroat trout) were not fully examined in the NMFS status review. The proposed rule (64 FR 16397) stated:

In the proposed [Southwestern Washington/Columbia River] ESU, only naturally spawned cutthroat trout are proposed for listing. Prior to the final listing determination, we will examine the relationship between hatchery and naturally spawned populations of cutthroat trout, and populations of cutthroat trout above barriers to assess whether any of these populations warrant listing. This may result in the inclusion of specific hatchery populations or populations above barriers as part of the listed ESU in the final listing determination.

In the section on the framework for ESUs, the NMFS status review document (Johnson et al. 1999) discussed the issue of barriers to migration (p. 125). The NMFS Biological Review Team (BRT) questioned the role played by above-barrier populations in ESUs immediately downstream, and found this analysis to be a challenging problem. Evidence of the challenge includes the fact that “[t]he BRT was divided regarding whether populations above long-standing natural barriers (i.e., those that effectively preclude all migration for hundreds or thousands of years) should be included in ESUs.” The BRT went on to discuss the reasons they might or might not choose to include populations above such barriers in ESUs, but failed to reach any resolution or pass on recommendations. The BRT also addressed the question of whether populations above barriers that permit some one-way migration should be included in an ESU downstream. A majority of BRT members felt that such populations should be included in the downstream ESU because these populations may “* * * contribute demographically and genetically to populations below them * * *”, and “* * * may represent genetic resources shared by populations below these barriers (and potentially a significant component of diversity for an ESU)” (Johnson et al. 1999).

When the Services published the proposed rule, however, the question on whether to include above-barrier populations in downstream ESUs remained unresolved. Furthermore, the BRT unanimously decided that the guidance on including populations above one-way passable barriers into downstream ESUs should not be followed in the case of Willamette Falls, a barrier that allows some one-way (and possibly in rare instances, two-way) migration between the currently proposed Southwestern Washington/Lower Columbia River ESU and the upper Willamette ESU (for which the BRT made no status assessment). In fact, the BRT went so far as to conclude that the upper Willamette population deserved its own ESU status, based primarily on the fact that it “* * * encompasses a large area with considerable habitat complexity * * *” and that it “* * * supports several different populations * * *” of coastal cutthroat trout (Johnson et al. 1999). However, it is possible that, with additional analysis, the area identified by NMFS as the Upper Willamette ESU is actually part of the Southwestern Washington/Lower Columbia River ESU. Another issue that needs to be addressed is how the BRT handled other populations either above impassable barriers, or above barriers allowing one-way passage, and if any of these populations warrant recognition as distinct vertebrate population segments.

In addition, we are aware of additional information provided to the BRT by the Washington Department of Fish and Wildlife (WDFW) that indicates that some coastal Washington populations currently included within the Southwestern Washington/Lower Columbia River ESU should not be included. Although this information was presented to the BRT during the status review, it was not made available to the FWS until after the decision regarding regulatory jurisdiction over coastal cutthroat trout was resolved. The BRT has also recently alerted the FWS to a compilation of new genetic data that the BRT indicated “* * * are relevant to the identification of distinct population segments in the Lower Columbia River and southwestern Washington coast” (Waples, in litt. 2000). Therefore, with further review, the WDFW information, information concerning the role of above-barrier and hatchery populations of cutthroat trout, and the new genetic data may lead us to modify the boundaries of the ESU proposed for listing. Such modification may result in the need to repropose the distinct vertebrate population segment for listing, if we determine that the status of the segment warrants protection under the ESA.

Therefore, in consideration of all the above issues, we are providing notice that, according to section 4(b)(6)(B)(i) of the ESA, the 1-year timeframe allowed to make a final determination on a listing proposal will be extended an additional 6 months. The 6-month extension will enable us to evaluate new information regarding the status of above-barrier and hatchery populations, and allow the integration of this information into the final listing decision. With this 6-month extension, a final decision regarding the proposal to list the Southwestern Washington/Columbia River ESU of the coastal cutthroat trout (64 FR 16397) is due by October 5, 2000.

Comments Solicited

In order to resolve the substantial scientific disagreement, we are requesting comments from interested parties on the following three topics:

(1) The role of hatchery populations of coastal cutthroat trout within the Southwestern Washington/Columbia River ESU, and their importance to the conservation of this population;

(2) The role of above-barrier populations, including the area identified as the Upper Willamette ESU, within the Southwestern Washington/Columbia River ESU and their importance to the conservation of this ESU; and

(3) Genetic data or other information that may help resolve the identification of distinct population segments in the southwestern Washington coast, Lower Columbia River, and Upper Willamette River areas.

Literature Cited

Johnson, O.W., M.H. Ruckelshaus, W.S. Grant, F.W. Waknitz, A.M. Garrett, G.J. Bryant, K. Neely, and J.J. Hard. 1999. Status review of coastal cutthroat trout from Washington, Oregon, and California. U.S. Dept. Commer., NOAA Tech Memo. NMFS-NWFSC-37, 292 p.

USDI & USDC 1999. Letter from USFWS Director Jamie Rappaport Clark and NMFS Director Penelope D. Dalton to Anne Badgley, Regional Director, Region 1 USFWS and Will Stelle, Regional Administrator, Northwest Region NMFS, regarding Regulatory Jurisdiction over the Coastal Cutthroat Trout (Oncorhynchus clarki clarki). Dated November 22, 1999. 2 pages.

Waples, R.S. In Litt. Letter from Robin Waples of NMFS Northwest Fisheries Science Center to Anne Badgley, Regional Director, Region 1 USFWS regarding a request for assistance in completing Endangered Species Act status review for Coastal cutthroat trout. Dated February 22, 2000. 2 pages.

Author: The primary author of this document is Rollie White (see ADDRESSES section).

Authority

The authority for this action is the Endangered Species Act of 1973 (16 U.S.C. 1531 et seq.).

Dated: April 6, 2000.
Jamie Rappaport Clark,
Director, U.S. Fish and Wildlife Service.

[FR Doc. 00-9258 Filed 4-13-00; 8:45 am]

BILLING CODE 4310-55-P